ENVIRONMENTAL PROTECTION AGENCY

[EPA-HQ-OPP-2009-1017; FRL-8837-6]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of requests by registrants to voluntarily cancel certain pesticide registrations. EPA intends to grant these requests at the close of the comment period for this announcement unless the Agency receives substantive comments within the comment period that would merit its further review of the requests, or unless the registrants withdraw their requests. If these request are granted, any sale, distribution, or use of products listed in this notice will be permitted after the registrations have been canceled only if such sale, distribution, or use is consistent with the terms as described in the final order.

DATES: Comments must be received on or before September 3, 2010.

ADDRESSES: Submit your comments, identified by docket identification (ID) number EPA-HQ-OPP-2009-1017, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001. Submit written withdrawal request by mail to: Pesticide Re-evaluation Division (7508P), Office of Pesticide Programs, Environmental Protection Agency, 1200 Pennsylvania Ave., NW., Washington, DC 20460-0001. Attention: Maia Tatinclaux.

• Delivery: OPP Regulatory Public Docket (7502P), Environmental Protection Agency, Rm. S-4400, One Potomac Yard (South Bldg.), 2777 S. Crystal Dr., Arlington, VA. Deliveries are only accepted during the Docket Facility’s normal hours of operation (8:30 a.m. to 4 p.m., Monday through Friday, excluding legal holidays). Special arrangements should be made for deliveries of boxed information. The Docket Facility telephone number is (703) 305-5805.

Instructions: Direct your comments to docket ID number EPA-HQ-OPP-2009-1017. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Maia Tatinclaux, Pesticide Re-evaluation Division (7508P), Office of Pesticide Programs, Environmental Protection Agency, 1200 Pennsylvania Ave., NW., Washington, DC 20460-0001; telephone number: (703) 347-0123; e-mail address: tatinclaux.maia@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. If you have any questions regarding the information in this notice, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What Action is the Agency Taking?

This notice announces receipt by the Agency of requests from registrants to cancel 76 pesticide products registered under FIFRA section 3 or 24(c). These registrations are listed in sequence by registration number (or company number and 24(c) number) in Table 1 of this unit.

Unless the Agency determines that there are substantive comments that warrant further review of the requests or the registrants withdraw their requests, EPA intends to issue an order in the Federal Register canceling all of the affected registrations.

Table 1.—Registrations with Pending Requests for Cancellation
Registration No. | Product Name | Active Ingredients
000004-00146 | Crabgrass Preventer & Weed Killer | Siduron
000004-00179 | Crabgrass Preventer & Weed Killer | Siduron
000004-00355 | Bonide Home Orchard Spray | Malathion Captan Sulfur
000004-00375 | Bonide Porch, Patio, Garden and Ornamental Spray | Piperonyl butoxide Pyrethrins
000004-00386 | Bonide Pyrethrin Growers Spray | Pyrethrins
000239-02523 | Flea-B-Gon Flea Killer Formula II | Tetramethrin Phenothrin
000239-02524 | Ortho Home & Garden Insect Killer Formula II | Tetramethrin Phenothrin
000239-02525 | Ortho Flying & Crawling Insect Killer Formula II | Tetramethrin Phenothrin
0002397-02535 | Ortho Dog &Cat Flea Spray | Tetramethrin Phenothrin
000241-00295 | Arsenal Herbicide 0.5 Granule | Imazapyr
000241-00308 | Arsenal 5-G Herbicide | Imazapyr
000270-00356 | Mycodex Premise Control Household Spray | Tetramethrin Phenothrin Pyriproxyfen
000464-00665 | Dow Diesel Fuel Conditioner | 4-(2-Nitrobutyl) morpholineMorpholine, 4,4'-(2-ethyl-2-nitro-1,3-propanediyl)bis-
000464-00678 | Fuelsaver F-15-Fuel Additive | 4-(2-Nitrobutyl) morpholineMorpholine, 4,4'-(2-ethyl-2-nitro-1,3-propanediyl)bis-
000499-00291 | Whitmire Sumithrin ME | Phenothrin
000499-00321 | Whitmire PT 120-3 | Phenothrin
000499-00381 | Whitmire PT 175 | MGK 264 Piperonyl butoxide Pyrethrins
000499-00389 | Whitmire PT 120 HO Sumithrin Contact Insecticide | Phenothrin
000506-00140 | Tat Hornet and Wasp Killer | Phenothrin Tetramethrin
000524-00478 | Bollgard BT Cotton | Bacillus thuringiensis var. kurstaki delta endotoxin protein as produced by the Cry1A(c) gene and its controlling sequences
001020-00014 | Oakite Biocide 20 | Poly(oxy-1,2-ethanediyl(dimethylimino)-1,2-ethanediyl(dimethylimino)-1,2-ethanediyldichloride)
001021-01393 | Multicide® Concentrate 2128 | Phenothrin
001021-01557 | Multicide Intermediate 2471 | Phenothrin
001021-01719 | Pyrocide Insecticide II | Piperonyl butoxide Pyrethrins Silicon dioxide
001021-01843 | Permethrin 10% Pour On | Permethrin
001021-01844 | Permethrin 0.25% Granules | Permethrin
001021-01848 | Permethrin 3.2 MUP | Permethrin
001021-01849 | Permethrin 0.5%G Homeowner | Permethrin
001021-01850 | Permethrin 0.5%GC | Permethrin
001270-00073 | Zep Thermo-Fog Insecticide | MGK 264 Piperonyl butoxide Pyrethrins
002217-00854 | EH1392 Herbicide | Propanoic acid, 2-(4-((5-(trifluoromethyl)-2-pyridinyl)oxy)phenoxy)-,butil ester,®
002517-00076 | Sergeant's X-term Household Flea & Tick Killer with Nylar | Tetramethrin Phenothrin Pyriproxyfen
002724-00529 | Speer Household Insect Killer | Phenothrin Tetramethrin
002724-00530 | Speer Household Insect Spray | Phenothrin Tetramethrin
002724-00533 | Speer Magic Guard Insect Killer | Phenothrin Tetramethrin
002724-00536 | Speer Automatic Indoor Fogger | Phenothrin Tetramethrin
002724-00537 | Better World House and Garden Insect Killer | Phenothrin Tetramethrin
002724-00538 | Speer Pyrethroid Concentrate T-12/4 (Oil Dilutable) | Phenothrin Tetramethrin
0027247-00540 | Purr-R-Fect Pet (Pressurized) Flea Spray for Cats | Phenothrin Tetramethrin
002724-00541 | Purr-R-Fect Pet Flea Spray for Cats | Phenothrin Tetramethrin
002724-00542 | Better World Brand Pressurized Plant Spray | Phenothrin Tetramethrin
002724-00543 | Happy Dog (Pressurized) Flea & Tick Spray for Dogs | Phenothrin Tetramethrin
002724-00545 | Speer Six-Month Mothproofer | Phenothrin Tetramethrin
002724-00547 | Happy Dog Flea and Tick Spray for Dogs | Phenothrin Tetramethrin
002724-00549 | Speer Fogger and Contact Insecticide | Phenothrin Tetramethrin
002724-00597 | Farnam Flying Insect Killer | Phenothrin Tetramethrin
002724-00599 | Repel-X II | Butoxypolypropylene glycol Tetramethrin Phenothrin
002724-00604 | Farnam Flying Insect Killer | Phenothrin Tetramethrin
002724-00615 | Mug-A-Bug VI Total Release Aerosol Fogger | Phenothrin Tetramethrin
002724-00663 | Speer Flea Spray for Carpets and Furniture with Nylar | Phenothrin Tetramethrin Pyriproxyfen
004313-00087 | Wasp & Hornet Killer ”Jet Stream“ | Tetramethrin Phenothrin
004822-00172 | Raid Household Flying Insect Killer Formula 3 | Phenothrin Bioallethrin
004822-00465 | P/P Flea & Tick Spray No. 2 | Phenothrin Tetramethrin
005178-00004 | Fish Brand E Mosquito Coils | Bioallethrin
006836-00123 | Glybrom RW-95 | 2,4-Imidazolidinedione, 1-bromo-3-chloro-5,5-dimethyl-and 1-3-Dibromo-5,5-dimethylhydantoin
006836-00250 | Dantobrom P Granular | 2,4-Imidazolidinedione,1-bromo-3-chloro-5,5-dimethyl-;1-3-Dibromo-5,5-dimethylhydantoin and 1-3, Dichloro-5-ethyl-5-methylhydantoin
008848-00042 | Black Jack Flea and Tick Killer for Carpets and Rugs | Phenothrin Tetramethrin
010308-00014 | Vape Mat | d-Allethrin
010308-00015 | Pynamin Forte 60 Mosquito Mat | d-Allethrin
010308-00016 | Pynamin Forte 120 Mosquito and Fly Mat | d-Allethrin
010308-00017 | Pynamin Forte Mosquito Coil | d-Allethrin
019713-00347 | Macco Industrial Strength Pyrethrin | Piperonyl butoxide Pyrethrins Xylene range aromatic solvent
019713-00313 | Pearsons Institutional Bug Killer | Piperonyl butoxide Pyrethrins
019713-00315 | Pearson's Grain Spray | Piperonyl butoxide Pyrethrins
019713-00347 | Macco Industrial Strength Pyrethrin | Piperonyl butoxide Pyrethrins Xylene range aromatic solvent
019713-00348 | Macco Pyrethrin Fogging Spray | Piperonyl butoxide Pyrethrins Xylene range aromatic solvent
019713-00349 | Macco Dairy Spray | Piperonyl butoxide Pyrethrins
047371-00138 | Formulation RTU-451 | Alkyl dimethyl benzyl ammonium chloride (50% c14, 40% C12, 10% C16)
047371-00177 | Formulation RTU-PA 1210 | Alkyl dimethyl benzyl ammonium chloride (50% c14, 40% C12, 10% C16) and 1-Decanaminium, N-decyl-N,N-dimethyl-chloride
053883-00031 | Permethrin Technical | Permethrin
070127-00004 | Beetleball Technical | Benzene,1-methoxy-4-(2-propenyl)-
070506-00199 | TOTH 80 WP | Fentin hydroxide
070506-00203 | Tebuconazole 3.6FL Liquid Flowable Fungicide | Tebuconazole
070506-204 | Tebuconazole 45 WDG | Tebuconazole
075341-00005 | Cop-R-Plastic Wood Preserving Compound | Copper naphthenate Sodium fluoride
075844-00003 | Freedom Premise Spray | Deltamethrin

Table 2 of this unit includes the names and addresses of record for all registrants of the products in Table 1 of this unit, in sequence by EPA company number. This number corresponds to the first part of the EPA registration numbers of the products listed in this unit.

Table 2.—Registrants Requesting Voluntary Cancellation
EPA Company No. | Company Name and Address
4 | Bonide Products, Inc. Agent Registrations By Design, Inc. P.O. Box 1019 Salem, VA 24153-3805
239 | The Scotts Company 14111 Scott Lawn Road Marysville, OH 43041
241 | BASF Corporation 26 Davis Drive, P.O. Box 13528 Research Triangle Park, NC 27709-3528
270 | Farnam Companies, Inc. D/B/A Central Life Sciences 301 West Osborn Road Phoenix, AZ 85013
464 | The Dow Chemical Co. 1500 East Lake Cook Road Buffalo Grove, IL 60089
499 | Whitmire Micro-Gen Research Laboratories, Inc. Agent Name: BASF CORP. 3568 Tree Court Industrial Blvd. St. Louis, MO 63122-6682
506 | Walco Linck Company 30856 Rocky Road Greeley, CO 80631-9375
524 | Monsanto Company 1300 I Street, NW Suite 450 East Washington, DC 20005
1020 | Chemetall US, Inc. 675 Central Avenue New Providence, NJ 07974-0007
1021 | McLaughlin Gormley King Co. 8810 Tenth Ave North Minneapolis, MN 55427-4319
1270 | ZEP Inc. 1310 Seaboard Industrial Blvd., NW Atlanta, GA 30318
2217 | PBI/Gordon Corp. 1217 West 12th Street P.O. Box 014090 Kansas City, MO 64101-0090
2517 | Sergeant's Pet Care Products, Inc. 2625 South 158th Plaza Omaha, NE 68130-1703
2724 | Wellmark International 1501 E. Woodfield Road Suite 200 West Schaumburg, IL 60173
4313 | Carroll Company 2900 W. Kingsley Rd Garland, TX 75041
4822 | S.C. Johnson & Son, Inc. 1525 Howe St. Racine, WI 53403
5178 | Blood Protection Co. Ltd. P.O. Box 65436 Tucson, AZ 85728
6836 | Lonza Inc. 90 Boroline Road Allendale, NJ 07401
8848 | Safeguard Chemical Corp. 411 Wales Avenue Bronx, NY 10454
10308 | Sumitomo Chemical Company Ltd. 1600 Riviera Avenue, Suite 200 Walnut Creek, CA 94596-8025
19713 | Drexel Chemical Company, 1700 Channel Avenue P.O. Box 13327 Memphis, TN 38113-0327
47371 | H&S Chemicals Division 90 Boroline Road Allendale, NJ 07401
53883 | Control Solutions, Inc. 427 Hide Away Circle Cub Run, KY 42729
70127 | Novozymes Biologicals, Inc. 1150 Conn., Avenue, NW Suite 1100 Washington, DC 20036
70506 | United Phosphorus, Inc. 630 Freedom Business Center, Suite 402 King of Prussia, PA 19406
75341 | Osmose Utility Services Inc. 980 Ellicott Street Buffalo, NY 14209
75844 | Andrew M Martin Co. NV. Inc. Agent Technology Sciences Group Inc. 4061 N. 156th Drive Phoenix, AZ 85338

III. What is the Agency's Authority for Taking this Action?

Section 6(f)(1) of FIFRA provides that a registrant of a pesticide product may at any time request that any of its pesticide registrations be canceled. FIFRA further provides that, before acting on the request, EPA must publish a notice of receipt of any such request in the Federal Register.

Section 6(f)(1)(B) of FIFRA requires that before acting on a request for voluntary cancellation, EPA must provide a 30-day public comment period on the request for voluntary cancellation or use termination. In addition, FIFRA section 6(f)(1)(C) requires that EPA provide a 180-day comment period on a request for voluntary cancellation or termination of any minor agricultural use before granting the request, unless:

1. The registrants request a waiver of the comment period, or

2. The EPA Administrator determines that continued use of the pesticide would pose an unreasonable adverse effect on the environment.

The registrants in Table 2 of Unit II. have requested that EPA waive the 180-day comment period. Accordingly, EPA will provide a 30-day comment period on the proposed requests.

IV. Procedures for Withdrawal of Request

Registrants who choose to withdraw a request for cancellation should submit such withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States (U.S.) and that were packaged, labeled, and released for shipment prior to the effective date of the cancellation action.

A. Disposition of Existing Stocks For All Table 1 Products Except EPA Reg. No. 524-478

Because the Agency has identified no significant potential risk concerns associated with these pesticide products, upon cancellation of the products identified in Table 1 of Unit II. (except EPA Reg. No. 524-478), EPA anticipates allowing registrants to sell and distribute existing stocks of these products for 1 year after publication of the Cancellation Order in the Federal Register. Thereafter, registrants will be prohibited from selling, formulating or distributing the pesticides identified in Table 1 of Unit II., except for export consistent with FIFRA section 17 or for proper disposal. Persons other than registrants will generally be allowed to sell, distribute, or use existing stocks until such stocks are exhausted, provided that such sale, distribution, or use is consistent with the terms of the previously approved labeling on, or that accompanied, the canceled products.

B. Disposition of Existing Stocks For EPA Reg. No. 524-478

In accordance with a “phase-out” agreement negotiated with Monsanto Company in conjunction with an amendment request for EPA Reg. No. 524-478, all sale, distribution, and planting of Bollgard® Cotton (EPA Reg. No. 524-478) is prohibited after July 1, 2010. The terms of the negotiated U.S. phase-out strategy include:

1. Production of Bollgard® Cotton (EPA Reg. No. 524-478) by Monsanto Company after September 30, 2009, is prohibited.

2. All sales of Bollgard® Cotton after September 30, 2009, are prohibited.

3. Planting of Bollgard® Cotton seed after midnight of July 1, 2010, is prohibited.

4. All Bollgard® Cotton seed not planted on or before July 1, 2010, must be returned either to the retailer or to Monsanto Company. As a consequence of the U.S. phase-out strategy for Bollgard® Cotton, sale, distribution, and/or planting of Bollgard® Cotton is prohibited. All existing stocks must be returned to Monsanto Company or to an authorized retailer. These prohibitions will be reflected in the pending final order cancelling the registration for Bollgard® Cotton.

List of Subjects

Environmental protection, Pesticides and pests.

Dated: July 22, 2010
Richard P. Keigwin, Jr.,
Director, Pesticide Re-evaluation Division, Office of Pesticide Programs.

[FR Doc. 2010-18898 Filed 8-3-10; 8:45 am]

BILLING CODE 6560-50-S